EXPORT-IMPORT BANK OF THE UNITED STATES

Sunshine Act Meeting

ACTION: Notice of an Open Meeting of the Board of Directors of the Export-Import Bank of the United States.

TIME AND PLACE: Thursday, February 20, 2014 at 9:30 a.m. The meeting will be held at Ex-Im Bank in Room 321, 811 Vermont Avenue NW., Washington, DC 20571.

OPEN AGENDA ITEM: Item No. 1 Ex-Im Bank Advisory Committee for 2014 (New Member)

PUBLIC PARTICIPATION: The meeting will be open to public observation for Item No. 1 only.

FURTHER INFORMATION: Members of the public who wish to attend the meeting should call Joyce Stone, Office of the Secretary, 811 Vermont Avenue NW., Washington, DC 20571 (202) 565-3336 by close of business Tuesday, February 18, 2014.

Joyce Brotemarkle Stone,
Assistant Corporate Secretary.

[FR Doc. 2014-03447 Filed 2-12-14; 4:15 pm]

BILLING CODE 6690-01-P